DEPARTMENT OF THE INTERIOR

Fish and Wildlife Service

[FWS-R4-R-2009-N0057; 40136-1265-0000-S3]

Bayou Sauvage National Wildlife Refuge, Orleans Parish, LA

AGENCY: Fish and Wildlife Service, Interior.

ACTION: Notice of availability: draft comprehensive conservation plan and environmental assessment; request for comments.

SUMMARY: We, the Fish and Wildlife Service (Service) announce the availability of a draft comprehensive conservation plan (Draft CCP/EA) for Bayou Sauvage National Wildlife Refuge (NWR) for public review and comment. In this Draft CCP/EA, we describe the alternative we propose to use to manage this refuge for the 15 years following approval of the Final CCP.

DATES: To ensure consideration, we must receive your written comments by May 26, 2009.

ADDRESSES: Send comments, questions, and requests for information to: Mr. Pon Dixson, Deputy Project Leader, Southeast Louisiana National Wildlife Refuge Complex, 61389 Highway 434, Lacombe, LA 70445. A copy of the Draft CCP/EA is available on both compact disc and hard copy, and it may be accessed and downloaded from the Service's Internet Site: http://southeast.fws.gov/planning/.

FOR FURTHER INFORMATION CONTACT: Mr. Pon Dixson; telephone: 985/882-2014; fax: 985/882-9133; e-mail: pon_dixson@fws.gov.

SUPPLEMENTARY INFORMATION:

Introduction

With this notice we continue the CCP process for Bayou Sauvage NWR. We started the process through a notice in the Federal Register on May 16, 2008 (72 FR 27585).

Background

The CCP Process

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Bayou Sauvage NWR is in eastern Orleans Parish, Louisiana, and is entirely situated within the corporate limits of the city of New Orleans. It is the largest national wildlife refuge in an urban area of the United States, and is one of the last remaining marsh areas adjacent to the south shores of Lakes Pontchartrain and Borgne. The refuge consists of 24,000 acres of wetlands and is bordered on three sides by water: Lake Pontchartrain on the north, Chef Menteur Pass on the east, and Lake Borgne on the south. The western side of the refuge is bordered by the Maxent Canal and lands that consist of bottomland hardwood habitat and exotic species, such as Chinese tallow and china berry. Un-leveed portions of the refuge consist of estuarine tidal marshes and shallow water. The Hurricane Protection Levee System, along with roadbeds, created freshwater impoundments, which altered the plant communities as well as the fish communities within these impoundments. Small forested areas exist on the low, natural ridges formed along natural drainages and along manmade canals.

CCP Alternatives, Including our Proposed Alternative

We developed three alternatives for managing the refuge and chose Alternative B as the proposed alternative. A full description is in the Draft CCP/EA. We summarize each alternative below.

Alternative A: Continuation of Current Refuge Management (No Action)

This alternative represents no change from current management of the refuge and provides a baseline. Management emphasis would continue to be directed towards accomplishing the refuge's primary purposes. Refuge staff would continue to restore and maintain emergent marsh—both tidally influenced and impounded, natural levee ridges, bottomland hardwood forests, spoil banks, and shallow open water bodies, all of which constitute a wide range of habitats within the refuge boundaries.

Current refuge management would continue to provide wintering and nesting habitats for migratory and resident waterfowl, wading birds, and migrating songbirds. The operation and management of the refuge would provide for the basic needs of these species, including feeding, resting, and breeding. The planting of vegetation used for food, nesting and cover, and moist-soil management in eight different water management units that cater to a variety of different species would continue to be priorities. At least two aerial waterfowl surveys would continue to be conducted.

Alternative B: Restoring and Improving Refuge Resources (Proposed Alternative)

This action was selected by the Service as the alternative that best signifies the vision, goals, and purposes of the refuge. Under Alternative B, the emphasis would be on restoring and improving refuge resources needed for wildlife and habitat management, while providing additional public use opportunities. This alternative would also allow the refuge to provide law enforcement protection that adequately meets the demands of an urban environment.

This alternative would focus on augmenting wildlife and habitat management to identify, conserve, and restore populations of native fish and wildlife species, with an emphasis on migratory birds and threatened and endangered species. This would partially be accomplished by increased monitoring of waterfowl, other migratory birds, and endemic species in order to assess and adapt management strategies and actions. The restoration of fresh and brackish marsh systems and hardwood forests would be a vital part of this proposed action and would be crucial to ensuring healthy and viable ecological communities following Hurricane Katrina. This restoration would require increased wetland vegetation and tree plantings, and the use of beneficial dredge, breakwater structures, and organic materials to promote reestablishment of emergent marsh and to reduce wave energy erosion along Lakes Pontchartrain and Borgne. Improving and monitoring water quality and active moist-soil management would assist in reestablishing freshwater marsh habitat.

The refuge would more aggressively control and, where possible, eliminate invasive plant species by seeking funding through the Service's invasive species control program. The control of Chinese tallow trees and cogon grass along the hardwood ridge would be a focal point. The control of nuisance wildlife would increase to include yearly population evaluations and more aggressive trapping programs for feral hogs and nutria.

Alternative B enhances the refuge's visitor services opportunities by: Improving and providing additional fishing opportunities; considering providing limited hunting opportunities on the refuge; providing environmental education that emphasizes refuge restoration activities, coastal conservation issues, and the diversity of water management regimes in the aftermath of Hurricane Katrina; establishing a visitor center or contact station on the refuge; developing and implementing a visitor services management plan; and enhancing personal interpretive opportunities. Volunteer programs and friends groups also would be expanded to enhance all aspects of refuge management and to increase resource availability.

Land acquisitions within the approved acquisition boundary would be based on importance of the habitats for target management species and for their public use value. The refuge headquarters would not only house administrative offices, but would offer interpretation of refuge wildlife and habitats, and would demonstrate habitat improvements for individual landowners. The headquarters facilities would be developed as an urban public use area with trails; buildings presently not being used and landscaping would be refurbished for visitor and community outreach.

In addition to the enforcement of all Federal and State laws applicable to the refuge to protect archaeological and historical sites, the staff would identify and develop a cultural resources plan to protect all known sites. The allocation of one law enforcement officer to the refuge would not only provide security for these resources, but would also ensure visitor safety and public compliance with refuge regulations.

Alternative C: Optimize Public Use Opportunities

Active management of refuge resources would be employed to optimize public use opportunities. Resources would be dedicated to increasing the public use activities of fishing, wildlife observation, wildlife photography, and environmental education and interpretation, and a limited hunting program would be considered. All purposes of the refuge and mandated monitoring of Federal trust species and archaeological resources would be continued, but other wildlife management would be dependent on public interests.

This alternative would utilize a custodial habitat management strategy. Moist-soil units would not be actively managed and would be allowed to revert back to brackish tidal marsh. These units would also be maintained near full pool level to facilitate public use opportunities, such as fishing and canoeing. Hardwood forest habitat in high public use areas would be restored and all other areas would recover naturally with no management intervention.

Increased wildlife observation, wildlife photography, and interpretation opportunities would result from the construction of an on-site visitor's center, canoe and birding tours, kiosks, and trail signs. Additionally, waterfowl and wildlife monitoring would be conducted periodically to identify high use areas for the visiting public to observe. Environmental education would be expanded by addressing a wide range of local and global environmental concerns and would be offered to a broader range of student groups and schools. New information brochures and tear sheets would be published to increase public outreach and to promote public use and recreational opportunities.

Land acquisitions within the approved acquisition boundary would be based on the importance of the habitat for public use. Administration plans would stress the need for increased maintenance of existing infrastructure and construction of new facilities that would benefit public use activities. The refuge would operate with the current level of staff. Law enforcement of refuge regulations and protection of wildlife and visitors would continue at current levels.

Next Step

After the comment period ends, we will analyze the comments and address them.

Public Availability of Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: March 16, 2009.
Cynthia K. Dohner,
Acting Regional Director.

[FR Doc. E9-9411 Filed 4-23-09; 8:45 am]

BILLING CODE 4310-55-P